DEPARTMENT OF JUSTICE

Notice of Lodging of Consent Decrees Pursuant to the Comprehensive Environmental Response, Compensation, and Liability Act

In accordance with Departmental policy, notice is hereby given that on September 19, 2001, proposed consent decrees in the case captioned United States v. Cohen, et al., Civil Action No. 96 C 7801 (N.D. Ill.), were lodged with the United States District Court for the Northern District of Illinois. The proposed consent decrees relate to the Standard Scrap Metal/Chicago International Exporting Site located at 4004-4020 South Wentworth and 4000-4027 South Wells Streets in Chicago, Illinois. The proposed consent decrees would resolve civil claims of the United States for recovery of past response costs under section 107 of the Comprehensive Environmental Response, Compensation, and Liability Act, as amended, 42 U.S.C. 9607, against Northern Indiana Public Service Company (“NIPSCO”) and Tri-State Metal Company (“Tri-State”). The proposed consent decree with NIPSCO would require NIPSCO to pay the United States $1.6 million in partial reimbursement of past response costs. The proposed consent decree with Tri-State would require Tri-State to pay the United States $25,000 in partial reimbursement of past response costs.

The Department of Justice will receive, for a period of thirty (30) days from the date of this publication, comments relating to the proposed consent decrees. Comments should be addressed to the Assistant Attorney General of the Environment and Natural Resource Division, Department of Justice, Washington, DC 20530, and should refer to United States v. Cohen, et al., Civil Action No. 96 C 7801 (N.D. Ill.), and DOJ Reference No. 90-11-3-1414A.

The proposed consent decrees may be examined at: (1) The Office of the United States Attorney for the Northern District of Illinois, 219 South Dearborn St., Chicago, Illinois, 60604; and (2) the United States Environmental Protection Agency (Region 5), 77 West Jackson Boulevard, Chicago, Illinois 60604-3590. Copies of the proposed consent decrees may be obtained by mail from the Department of Justice Consent Decree Library, P.O. Box 7611, Washington, DC 20044. In requesting copies, please refer to the above-referenced case and DOJ Refereence Number and enclose a check for $3.75 for the NIPSCO Consent Decree (15 pages at 25 cents per page reproduction cost), and $3.75 for the Tri-State Consent Decree (15 pages at 25 cents per page reproduction cost) made payable to the Consent Decree Library.

William D. Brighton,
Assistant Section Chief, Environmental Enforcement Section, Environment and Natural Resources Division.

[FR Doc. 01-25194 Filed 10-5-01; 8:45 am]

BILLING CODE 4410-15-M